DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, DoD announces that the DoD Task Force on the Prevention of Suicide by Members of the Armed Forces, a subcommittee of the Defense Health Board (DHB), will meet on October 8, 2009.

DATES: The meeting will be held on October 8, 2009, from 8 a.m. to 5 p.m. Subject to the availability of space, the meeting is open to the public from 9 a.m. to 12 p.m. and from 1 to 4 p.m. The meeting is closed to the public from 8 to 9 a.m., 12 to 1 p.m., and 4 to 5 p.m. for administrative working meetings.

Registration:

The public is encouraged to register for the meeting.

Special Accommodations:

If special accommodations are required to attend (sign language, wheelchair accessibility) please contact Ms. Lisa Jarrett at (703) 681-8448 ext. 1280 by September 23, 2009.

ADDRESSES: The meeting will be held at the Hilton Hotel San Diego Resort & Spa, 1775 E Mission Bay Dr., San Diego, CA 92109.

Written statements may be mailed to the address under FOR FURTHER INFORMATION CONTACT, e-mailed to dhb@ha.osd.mil, or faxed to (703) 681-3317.

Additional information, agenda updates, and meeting registration are available online at the Defense Health Board Web site, http://www.ha.osd.mil/dhb.

FOR FURTHER INFORMATION CONTACT: Commander Edmond F. Feeks, Executive Secretary, Defense Health Board, Five Skyline Place, 5111 Leesburg Pike, Suite 810, Falls Church, Virginia 22041-3206, (703) 681-8448, ext. 1228 (phone), (703) 681-3317 (fax), or e-mail: edmond.feeks@tma.osd.mil.

SUPPLEMENTARY INFORMATION:

Agenda

The DoD Task Force on the Prevention of Suicide by Members of the Armed Forces will meet to receive briefings on current efforts toward the prevention of suicide among Service members of the Armed Services. The Task Force will receive briefings on the DoD Suicide Event Report, Suicide Prevention and Risk Reduction Committee, the Defense Centers of Excellence, and the Mental Health Advisory Team. The Task Force will also participate in a panel discussion as well as discussions with families.

Pursuant to 5 U.S.C. 552b, as amended, and 41 CFR 102-3.140 through 102-3.165 and subject availability of space, the October 8, 2009, Defense Health Board meeting is open to the public from 9 a.m. to 12 p.m. and from 1 to 4 p.m. As follows, the meeting is closed to the public from 8 to 9 a.m., 12 to 1 p.m., and 4 to 5 p.m.

8 a.m.-9 a.m. (Closed Session: Administrative Working Meeting);

9 a.m.-12 p.m. (Open Session);

12 p.m.-1 p.m. (Closed Session: Administrative Working Meeting);

1 p.m.-4 p.m. (Open Session);

4 p.m.-5 p.m. (Closed Session: Administrative Working Meeting).

Written Statements

Anyone wishing to provide input to the Task Force on the Prevention of Suicide by Members of the Armed Forces should submit a written statement in accordance with 41 CFR 102-3.140(C) and section 10(a)(3) of the Federal Advisory Committee Act, and the procedures described in this notice. Written statements should be no longer than two type-written pages and must address the following detail: The issue, discussion, and a recommended course of action. Supporting documentation may also be included as needed to establish the appropriate historical context and to provide any necessary background information.

Individuals desiring to submit a written statement may do so through the Board's Designated Federal Officer (DFO) at any point (see FOR FURTHER INFORMATION CONTACT). If the written statement is not received at least 10 calendar days prior to the meeting, then it may not be provided to for consideration by the Task Force on the Prevention of Suicide by Members of the Armed Forces until the next open meeting.

The DFO will review all timely submissions with the Task Force on the Prevention of Suicide by Members of the Armed Forces Chairperson, and ensure they are provided to members of the Task Force before the meeting that is subject to this DFO Federal Officer may choose to invite the submitter of the comments to orally present their issue during an open portion of this meeting or at a future meeting.

The DFO, in consultation with the Task Force on the Prevention of Suicide by Members of the Armed Forces Chairperson, may, if desired, allot a specific amount of time for members of the public to present their issues for review and discussion by the Task Force on the Prevention of Suicide by Members of the Armed Forces.

Dated: September 2, 2009.
Patricia L. Toppings,
OSD Federal Register Liaison Officer, Department of Defense.

[FR Doc. E9-21748 Filed 9-9-09; 8:45 am]

BILLING CODE 5001-06-P